DEPARTMENT OF THE INTERIOR

Bureau of Indian Affairs

Notice of Intent To Prepare a Programmatic Environmental Impact Statement for the Coeur d'Alene Tribe's Integrated Resource Management Plan, Coeur d'Alene Reservation, Plummer, ID

AGENCY: Bureau of Indian Affairs, Interior.

ACTION: Notice.

SUMMARY: This notice advises the public that the Bureau of Indian Affairs (BIA), with the cooperation of the Coeur d'Alene Tribe, intends to prepare a Programmatic Environmental Impact Statement (PEIS) for an Integrated Resource Management Plan (IRMP) for the approximately 345,000 acre Coeur d'Alene Indian Reservation, located within both Benewah and Kootenai Counties in the northern Idaho panhandle. Descriptions of this area and of the proposed action are provided in the SUPPLEMENTARY INFORMATION section. This notice also announces public scoping meetings for the content of the PEIS.

DATES: Comments on the scope of the PEIS/IRMP must arrive by October 18, 2002. The public scoping meetings will be held on Tuesday, October 8, 2002, and Wednesday, October 9, 2002, from 6 p.m. to 8 p.m.

ADDRESSES: You may mail or hand deliver written comments, or requests to be placed on the project mailing list, to Tiffany Allgood, Environmental Action Plan Coordinator, 850 A Street, P.O. Box 408, Plummer Idaho 83851. You may also comment via the Internet to tallgood1@earthlink.net. Please include your name and return address in Internet messages, and avoid the use of special characters or any form of encryption. If you do not receive a confirmation from the system that your Internet message has been received, contact Tiffany Algood at (208) 686-8802.

The October 8, 2002, public meeting will be held at the Tribal Wellness Center in Plummer, Idaho. The October 9, 2002, meeting will be held at the St. Maries Middle School in St. Maries, Idaho.

FOR FURTHER INFORMATION CONTACT: Tiffany Allgood, (208) 686-8802, or June Boynton, (503) 231-6749.

SUPPLEMENTARY INFORMATION: The Coeur d'Alene Indian Reservation is situated in an area that is rural in character, and includes portions of Lake Coeur d'Alene, the St. Joe River, Hangman Creek and other streams. Land on the reservation is comprised of trust lands, which are lands held in trust by the United States for the use and benefit of Indian tribes or individuals, and fee lands, which are lands held in fee simple status. Land use is mainly agriculture and forest, with a small amount of land used for cities and for commercial and subdivision developments. There are 6,451 people living on the Coeur d'Alene Reservation according to U.S. Census 2000.

The proposed action is to develop a Coeur d'Alene Tribal IRMP for natural and cultural resources. The tribe, in response to increasing population and accelerated development on the reservation, is developing this IRMP as it leads the reservation community in planning for a future that integrates development with maintenance and enhancement of natural and cultural resources. With input from an IRMP Interdisciplinary Team, an IRMP Community Advisory Committee and an extensive public involvement, public workshop, and consensus building process, the IRMP will assess changes in the physical, biological, and social elements of the Coeur d'Alene Reservation. The IRMP will benefit the tribe by documenting the desired conditions for natural and cultural resources on both tribal lands and the tribe's aboriginal lands for the next 20 to 100 years.

The Coeur d'Alene Tribe has done a comparison of past to existing environmental conditions in order to establish the parameters for which the desired future conditions will be assessed in the IRMP. General project goals are to (1) improve local environmental conditions to benefit human health, ecology and quality of life; (2) provide tools for tribal and community environmental planning and action; (3) improve environmental management by increasing communication and cooperation; and (4) involve the public throughout the planning process.

Expected issues and concerns to be addressed in the PEIS include impacts on wildlife, fish, water quality, recreation, roads, air quality, cultural and sacred sites and on residents from changes in land use, as well as socioeconomic feasibility and infrastructure changes. Alternatives will be developed to modify or eliminate the impacts from proposed activities or address unresolvable issues, while still meeting the purpose for this project.

Public Comment Availability

Comments, including names and addresses of respondents, will be available for public review at the mailing address shown in the ADDRESSES section, during regular business hours, 8 a.m. to 5 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses will be made available for public inspection in their entirety.

Authority

This notice is published in accordance with section 1503.1 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8. Nothing in this notice limits Coeur d'Alene rights as outlined in agreements between the tribe and the U.S. Government.

Dated: September 5, 2002.
Neal A. McCaleb,
Assistant Secretary—Indian Affairs.

[FR Doc. 02-23842 Filed 9-18-02; 8:45 am]

BILLING CODE 4310-W7-P